DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Volusia County, Florida, and Incorporated Areas
Docket No.: FEMA-B-1131
Angela Lake | Entire shoreline | *28 | City of Deltona.
Dupont Lake | Entire shoreline | *28 | City of Deltona.
Lake Butler | Entire shoreline | *28 | City of Deltona, Unincorporated Areas of Volusia County.
Louise Lake | Entire shoreline | *28 | City of Deltona.
Outlook Lake | Entire shoreline | *57 | City of Deltona.
Ponding Area 5 | Ponding area bounded by I-4 to the north and west, North Firwood Drive to the south, and North Normandy Boulevard to the east | *44 | City of Deltona.
Ponding Area 6 | Ponding area bounded by Graves Avenue to the north, North Normandy Boulevard to the west, North Firwood Drive to the south, and West Seagate Drive to the east | *74 | City of Deltona.
Ponding Area 7 | Ponding area bounded by Graves Avenue to the north, North Normandy Boulevard to the west, North Firwood Drive to the south, and West Seagate Drive to the east | *74 | City of Deltona.
Ponding Area 8 | Ponding area bounded by I-4 to the north and west, North Gloria Drive to the south, and East Annapolis Drive to the east | *36 | City of Deltona.
Ponding Area 9 | Ponding area bounded by Graves Avenue to the north, North Normandy Boulevard to the west, Vicksburg Street to the south, and Utility Driveway to the east | *79 | City of Deltona.
Ponding Area 10 | Ponding area bounded by North Firwood Drive to the north, North Normandy Boulevard to the west, Arlene Drive to the south, and East Firwood Drive to the east | *79 | City of Deltona.
Ponding Area 11 | Ponding area bounded by Graves Avenue to the north, North Normandy Boulevard to the west, Vicksburg Street to the south, and Utility Driveway to the east | *79 | City of Deltona.
Ponding Area 12 | Ponding area bounded by Flagler Street to the north, I-4 to the west, South Annapolis Drive to the south, and East Annapolis Drive to the east | *36 | City of Deltona.
Ponding Area 13 | Ponding area bounded by Arlene Drive to the north, North Normandy Boulevard to the west and south, and Fitzpatrick Terrace to the east | *65 | City of Deltona.
Ponding Area 14 | Ponding area bounded by North Fairbanks Drive to the north, East Firwood Drive to the west, Arlene Drive to the south, and Banbury Avenue to the east | *88 | City of Deltona.
Ponding Area 15 | Ponding area bounded by I-4 to the north and west, Sullivan Street to the south, and Galveston Avenue to the east | *32 | City of Deltona.
Ponding Area 16 | Ponding area bounded by North Gloria Drive to the north, Galveston Avenue to the west, Antelope Drive to the south, and East Gloria Drive to the east | *38 | City of Deltona.
Ponding Area 17 | Ponding area bounded by Applegate Terrace to the north, East Gloria Drive to the west and south, and North Normandy Boulevard to the east | *51 | City of Deltona.
Ponding Area 18 | Ponding area bounded by I-4 to the north and west, Sullivan Street to the south, and Galveston Avenue to the east | *40 | City of Deltona.
Ponding Area 19 | Ponding area bounded by Geraldine Drive to the north and east, Apricot Drive to the west, and Gondolier Terrace to the south | *38 | City of Deltona.
Ponding Area 20 | Ponding area bounded by Gallagher Avenue to the north and west, Sullivan Street to the south, and East Gloria Drive to the east | *51 | City of Deltona.
Ponding Area 21 | Ponding area bounded by I-4 to the north and west, Rockford Street to the south, and West Parkton Drive to the east | *34 | City of Deltona.
Ponding Area 22 | Ponding area bounded by I-4 to the north and west, Sullivan Street to the south, and Galveston Avenue to the east | *40 | City of Deltona.
Ponding Area 23 | Ponding area bounded by Gallagher Avenue to the north and west, Sullivan Street to the south, and East Gloria Drive to the east | *43 | City of Deltona.
Ponding Area 24 | Ponding area bounded by Sullivan Street to the north, East Parkton Drive to the west, South Anchor Drive to the south, and East Anchor Drive to the east | *43 | City of Deltona.
Ponding Area 25 | Ponding area bounded by Gainsboro Street to the north, East Anchor Drive to the west, Elwood Street to the south, and Dupont Court to the east | *53 | City of Deltona.
Ponding Area 26 | Ponding area bounded by North Goodrich Drive to the north, Escobar Avenue to the west, South Glancy Drive to the south, and East Glancy Drive to the east | *37 | City of Deltona.
Ponding Area 27 | Ponding area bounded by Leland Drive to the north and west, Fisher Drive to the south, and Providence Boulevard to the east | *31 | City of Deltona.
Ponding Area 28 | Ponding area bounded by Providence Boulevard to the north and west, Grapewood Street to the south, and Chestnut Court to the east | *39 | City of Deltona.
Ponding Area 29 | Ponding area bounded by Leland Drive to the north, Coventry Estates Boulevard to the west, Debary Avenue to the south, and Monarco Avenue to the east | *34 | City of Deltona, Unincorporated Areas of Volusia County.
Ponding Area 30 | Ponding area bounded by Beckwith Street to the north, Coachman Drive to the west, Bentley Court to the south, and Courtland Boulevard to the east | *47 | City of Deltona.
Ponding Area 31 | Ponding area bounded by Captain Drive to the north, Parma Drive to the west, Lake Helen Osteen Road to the south, and Snow Drive to the east | *28 | City of Deltona.
Ponding Area 32 | Ponding area bounded by Yorkshire Drive to the north and west, Catalina Boulevard to the south, and Lake Helen Osteen Road to the east | *36 | City of Deltona.
Ponding Area 33 | Ponding area bounded by Coventry Street to the north, Courtland Boulevard to the west, Riverhead Drive to the south, and Jewel Avenue to the east | *51 | City of Deltona.
Ponding Area 34 | Ponding area bounded by Riverhead Drive to the north, Courtland Boulevard to the west, Laredo Drive to the south, and East Dorchester Drive to the east | *51 | City of Deltona, Unincorporated Areas of Volusia County.
Ponding Area 35 | Ponding area bounded by Elkcam Boulevard to the north, East Cooper Drive to the west, Beechdale Drive to the south, and Eden Drive to the east | *28 | City of Deltona.
Ponding Area 36 | Ponding area bounded by Tivoli Drive to the north, Lydia Drive to the west, Fergason Avenue to the south, and Providence Boulevard to the east | *49 | City of Deltona.
Ponding Area 37 | Ponding area bounded by Lake Helen Osteen Road to the north, Center Road to the west, Howland Boulevard to the south, and Austin Avenue to the east | *28 | City of Deltona.
Ponding Area 38 | Ponding area bounded by Newmark Drive to the north, Cofield Drive to the west, Conyers Court to the south, and Amboy Drive to the east | *28 | City of Deltona.
Ponding Area 39 | Ponding area bounded by Clewiston Street to the north, Etta Circle to the west, Hallow Drive to the south, and Courtland Boulevard to the east | *23 | City of Deltona.
Ponding Area 40 | Ponding area bounded by Montcalm Street to the north, Gage Avenue to the west, Goldenhills Street to the south, and Clarion Circle to the east | *26 | City of Deltona.
Ponding Area 41 | Ponding area bounded by Alexander Avenue to the north and east, Providence Boulevard to the west, and Grapewood Street to the south | *69 | City of Deltona.
Ponding Area 42 | Ponding area bounded by Doyle Road to the north, Braddock Road to the west and south, and West Harbor Drive to the east | *42 | City of Deltona, Unincorporated Areas of Volusia County.
Ponding Area 43 | Ponding area bounded by Lake Helen Osteen Road to the north and east, Sixma Road to the west, and Yorkshire Drive to the south | *34 | City of Deltona, Unincorporated Areas of Volusia County.
Ponding in the vicinity of Angela Lake, Dupont Lake, Lake Butler, Louise Lake, and Theresa Lake | Ponding area bounded by Howland Boulevard to the north and east, Providence Boulevard to the west, and Doyle Road to the south | *28 | City of Deltona, Unincorporated Areas of Volusia County.
Theresa Lake | Entire shoreline | *28 | City of Deltona.
Three Island Lakes | Entire shoreline | *28 | City of Deltona, Unincorporated Areas of Volusia County.
Trout Lake | Entire shoreline | *26 | City of Deltona.
* National Geodetic Vertical Datum.
+ North American Vertical Datum.
# Depth in feet above ground.
‸ Mean Sea Level, rounded to the nearest 0.1 meter.
ADDRESSES
City of Deltona | Maps are available for inspection at the Department of Developmental Services, 777 Deltona Boulevard, Deltona, FL 32725.
Unincorporated Areas of Volusia County
Maps are available for inspection at the Volusia County Office of Growth Management, 123 West Indiana Avenue, DeLand, FL 32720.
Woodbury County, Iowa, and Incorporated Areas
Docket No.: FEMA-B-1098
Little Sioux River | Approximately 0.95 mile downstream of 220th Street | +1100 | Unincorporated Areas of Woodbury County.
| Approximately 1.09 miles upstream of 220th Street | +1105
Missouri River | Approximately 900 feet upstream of the Monona County boundary | +1064 | City of Sioux City, Unincorporated Areas of Woodbury County, Winnebago Indian Tribe.
| Approximately 500 feet downstream of the Dakota County boundary | +1090
Perry Creek | Approximately 150 feet upstream of 6th Street | +1108 | City of Sioux City.
| Approximately 225 feet upstream of Country Club Boulevard | +1144
* National Geodetic Vertical Datum.
+ North American Vertical Datum.
# Depth in feet above ground.
‸ Mean Sea Level, rounded to the nearest 0.1 meter.
ADDRESSES
City of Sioux City
Maps are available for inspection at 405 6th Street, Sioux City, IA 51101.
Unincorporated Areas of Woodbury County
Maps are available for inspection at 620 Douglas Street, 6th Floor, Sioux City, IA 51101.
Winnebago Indian Tribe
Maps are available for inspection at 100 Bluff Street, Winnebago, NE 68071.
Shawnee County, Kansas, and Incorporated Areas
Docket No.: FEMA-B-1087
Butcher Creek | Just upstream of I-470 | +977 | City of Topeka, Unincorporated Areas of Shawnee County.
| Approximately 1,565 feet upstream of Southeast 45th Street | +994
Colly Creek | At the confluence with South Branch Shunganunga Creek | +952 | City of Topeka, Unincorporated Areas of Shawnee County.
| Approximately 300 feet upstream of Southwest Gage Boulevard | +988
Cross Creek | At the confluence with Kansas Creek | +919 | City of Rossville, Unincorporated Areas of Shawnee County.
| Approximately 0.6 mile upstream of U.S. Route 24 | +932
Deer Creek | At the confluence with Shunganunga Creek | +882 | City of Topeka, Unincorporated Areas of Shawnee County.
| Approximately 100 feet downstream of Southeast 45th Street | +967
Elevation Tributary | At the confluence with Shunganunga Creek | +976 | City of Topeka.
| At the confluence with Southwest Branch Elevation Creek | +986
Indian Hills Tributary | At the confluence with Shunganunga Creek | +958 | City of Topeka, Unincorporated Areas of Shawnee County.
| Approximately 580 feet upstream of Southwest Urish Road | +998
Shunganunga Creek | At the confluence with the Kansas River | +873 | City of Topeka, Unincorporated Areas of Shawnee County.
| Approximately 280 feet upstream of Indian Hills Road | +1013
Soldier Creek | At the confluence with the Kansas River | +880 | City of Topeka, Unincorporated Areas of Shawnee County.
| Approximately 0.6 mile upstream of Northwest Menoken Road | +901
South Branch Shunganunga Creek | At the confluence with Shunganunga Creek | +917 | City of Topeka, Unincorporated Areas of Shawnee County.
| Approximately 250 feet upstream of Burlingame Road | +953
Southeast Branch Elevation Creek | At the confluence with Elevation Tributary | +986 | City of Topeka, Unincorporated Areas of Shawnee County.
| Approximately 0.7 mile upstream of Southwest Wanamaker Road | +1031
Southwest Branch Elevation Creek | At the confluence with Elevation Tributary | +986 | City of Topeka.
| Approximately 0.5 mile upstream of Southwest 41st Street | +1031
Wanamaker Main Branch | At the confluence with the Kansas River | +885 | City of Topeka, Unincorporated Areas of Shawnee County.
| Approximately 300 feet upstream of Southwest Robinson Avenue | +956
Wanamaker Northeast Branch | At the confluence with Wanamaker Main Branch | +937 | City of Topeka.
| Approximately 0.4 mile upstream of Southwest Robinson Avenue | +947
West Fork Butcher Creek | At the confluence with Butcher Creek | +943 | City of Topeka.
| Approximately 1,250 feet upstream of Southeast 45th Street | +1000
* National Geodetic Vertical Datum.
+ North American Vertical Datum.
# Depth in feet above ground.
‸ Mean Sea Level, rounded to the nearest 0.1 meter.
ADDRESSES
City of Rossville
Maps are available for inspection at City Hall, 438 Main Street, Rossville, KS 66533.
City of Topeka
Maps are available for inspection at the Engineering Division, 620 Southeast Madison Street, Topeka, KS 66603.
Unincorporated Areas of Shawnee County
Maps are available for inspection at the County Engineer's Office, 1515 Northwest Saline Street, Topeka, KS 66618.
Shiawassee County, Michigan (All Jurisdictions)
Docket No.: FEMA-B-1095
Holly Drain | Approximately 1,470 feet upstream of Maple Street | +764 | Village of Vernon.
| Approximately 1,500 feet upstream of Maple Street | +764
Shiawassee River | Approximately 5,780 feet upstream of North Shiawassee Street | +741 | Charter Township of Caledonia, Township of Vernon, Village of Vernon.
| Approximately 520 feet upstream of Washington Avenue | +762
* National Geodetic Vertical Datum.
+ North American Vertical Datum.
# Depth in feet above ground.
‸ Mean Sea Level, rounded to the nearest 0.1 meter.
ADDRESSES
Charter Township of Caledonia | Maps are available for inspection at the Caledonia Township Hall, 135 North State Street, Owosso, MI 48867.
Township of Vernon | Maps are available for inspection at the Vernon Township Hall, 6801 South Durand Road, Durand, MI 48429.
Village of Vernon
Maps are available for inspection at the Vernon Village Hall, 120 Main Street, Vernon, MI 48476.
Cape Girardeau County, Missouri, and Incorporated Areas
Docket No.: FEMA-B-1089
Apple Creek | Approximately 1,010 feet downstream of U.S. Route 61 | +399 | Village of Old Appleton.
| Approximately 200 feet upstream of U.S. Route 61 | +403
Goose Creek | Approximately 0.4 mile downstream of County Road 302 | +475 | Unincorporated Areas of Cape Girardeau County.
| Approximately 0.5 mile upstream of County Road 302 | +503
Goose Creek East Fork | Just upstream of the confluence with Goose Creek | +485 | Unincorporated Areas of Cape Girardeau County.
| Approximately 1,490 feet upstream of the confluence with Goose Creek | +503
Hubble Creek | Approximately 0.5 mile upstream of Sunset Hills Drive | +449 | Unincorporated Areas of Cape Girardeau County.
| Approximately 100 feet upstream of the southbound ramp of I-55 | +508
Mississippi River | Approximately 4.6 miles downstream of State Route 140 | +348 | City of Cape Girardeau, Unincorporated Areas of Cape Girardeau County.
| Approximately 24.6 miles upstream of State Route 140 | +368
Ramsey Branch | Approximately 100 feet upstream of I-55 | +355 | City of Cape Girardeau, Unincorporated Areas of Cape Girardeau County.
| Approximately 1.5 miles upstream of County Road 314 | +474
Rocky Branch | Approximately 200 feet upstream of North Farmington Road | +470 | Unincorporated Areas of Cape Girardeau County.
| Approximately 0.6 mile upstream of North Farmington Road | +488
Rocky Branch West Fork | Just upstream of the confluence with Rocky Branch | +410 | City of Jackson, Unincorporated Areas of Cape Girardeau County.
| Approximately 260 feet upstream of Old Toll Road | +446
Unnamed Tributary to Hubble Creek (backwater effects from Hubble Creek) | Approximately 500 feet upstream from the confluence with Hubble Creek | +441 | Unincorporated Areas of Cape Girardeau County.
| Approximately 635 feet upstream from the confluence with Hubble Creek | +441
Veterans Fork | Approximately 1,775 feet downstream of State Highway K | +395 | City of Cape Girardeau, Unincorporated Areas of Cape Girardeau County.
| Approximately 1,575 feet upstream of County Road 314 | +453
Williams Creek | Just upstream of County Road 318 | +404 | City of Jackson, Unincorporated Areas of Cape Girardeau County.
| Approximately 1,003 feet upstream of Bainbridge Road | +441
* National Geodetic Vertical Datum.
+ North American Vertical Datum.
# Depth in feet above ground.
‸ Mean Sea Level, rounded to the nearest 0.1 meter.
ADDRESSES
City of Cape Girardeau
Maps are available for inspection at City Hall, 401 Independence Street, Cape Girardeau, MO 63703.
City of Jackson
Maps are available for inspection at City Hall, 101 Court Street, Jackson, MO 63755.
Unincorporated Areas of Cape Girardeau County
Maps are available for inspection at the Cape Girardeau County Courthouse, 1 Barton Square, Jackson, MO 63755.
Village of Old Appleton
Maps are available for inspection at the Cape Girardeau County Courthouse, 1 Barton Square, Jackson, MO 63755.
Sussex County, New Jersey (All Jurisdictions)
Docket No.: FEMA-B-1100 and FEMA-B-1133
Culvers Creek | At the confluence with Dry Brook | +528 | Township of Frankford.
| At the upstream corporate limit of the Township of Frankford | +645
Delaware River | At the Warren County boundary | +352 | Township of Montague, Township of Sandyston, Township of Walpack.
| At the New York State boundary | +426
Dry Brook | At the upstream side of the State Route 206 culvert | +509 | Borough of Branchville, Township of Frankford.
| Approximately 675 feet upstream of Wantage Avenue (County Route 519) | +575
Lake Hopatcong | Entire shoreline within community | +925 | Borough of Hopatcong.
Lake Mohawk | Entire shoreline within community | +730 | Township of Byram.
Lubbers Run | At the downstream corporate limit of the Borough of Hopatcong | +733 | Borough of Hopatcong.
| Approximately 3,540 feet upstream of County Road 605 | +809
Lubbers Run | Approximately 2,620 feet downstream of Mansfield Drive | +710 | Township of Byram.
| Approximately 140 feet upstream of Mansfield Drive | +713
Musconetcong River | At the downstream corporate limit of the Borough of Hopatcong | +870 | Borough of Hopatcong.
| Approximately 2,530 feet upstream of the downstream corporate limit of the Borough of Hopatcong | +876
Paulins Kill | At the Township of Hampton corporate limit | +502 | Township of Frankford.
| Approximately 200 feet downstream of Decker Road | +502
Pequest River | Approximately 380 feet downstream of County Road 618 (at the Township of Andover corporate limit) | +583 | Township of Fredon.
| Approximately 400 feet upstream of County Road 618 (at the Township of Andover corporate limit) | +584
Unnamed Tributary to Paulins Kill | Approximately 300 feet downstream of U.S. Route 206 | +502 | Township of Hampton.
| Approximately 20 feet downstream of U.S. Route 206 | +502
Wallkill River | Approximately 315 feet upstream of County Route 565 (at the Township of Vernon corporate limit) | +393 | Township of Hardyston.
| Approximately 320 feet downstream of Scott Road (at the Borough of Franklin corporate limit) | +403
* National Geodetic Vertical Datum. | + North American Vertical Datum. | # Depth in feet above ground. | ‸ Mean Sea Level, rounded to the nearest 0.1 meter.
ADDRESSES
Borough of Branchville
Maps are available for inspection at the Municipal Building, 5 Main Street, Branchville, NJ 07826.
Borough of Hopatcong
Maps are available for inspection at the Municipal Building, 111 River Styx Road, Hopatcong, NJ 07843.
Township of Byram
Maps are available for inspection at the Byram Township Municipal Building, 10 Mansfield Drive, Stanhope, NJ 07874.
Township of Frankford
Maps are available for inspection at the Frankford Township Municipal Building, 151 State Highway 206, August, NJ 07822.
Township of Fredon
Maps are available for inspection at the Fredon Township Municipal Building, 443 Route 94, Newton, NJ 07860.
Township of Hampton
Maps are available for inspection at the Hampton Township Municipal Building, 1 Rumsey Way, Newton, NJ 07860.
Township of Hardyston
Maps are available for inspection at the Municipal Building, 149 Wheatsworth Road, Suite A, Hardyston, NJ 07419.
Township of Montague
Maps are available for inspection at the Municipal Building, 277 Clove Road, Montague, NJ 07827.
Township of Sandyston
Maps are available for inspection at the Municipal Building, 133 County Route 645, Sandyston, NJ 07827.
Township of Walpack
Maps are available for inspection at the Walpack Township Municipal Building, 9 Main Street, Walpack Center, NJ 07881.
Warren County, New Jersey (All Jurisdictions)
Docket No.: FEMA-B-1098
Buckhorn Creek | At the confluence with the Delaware River | +226 | Township of Harmony.
| Approximately 850 feet upstream of Hutchinson Station Road | +226
Delaware River | Approximately 150 feet upstream of Riegelsville Bridge | +161 | Town of Belvidere, Town of Phillipsburg, Township of Hardwick, Township of Harmony, Township of Knowlton, Township of Lopatcong, Township of Pohatcong, Township of White.
| At the Sussex County boundary | +352
Lopatcong Creek | At the confluence with the Delaware River | +186 | Town of Phillipsburg.
| Approximately 450 feet upstream of Waste Water Treatment Facility Driveway | +186
Pequest River | At the confluence with the Delaware River | +256 | Town of Belvidere.
| Approximately 100 feet downstream of Orchard Street | +284
* National Geodetic Vertical Datum.
+ North American Vertical Datum.
# Depth in feet above ground.
‸ Mean Sea Level, rounded to the nearest 0.1 meter.
ADDRESSES
Town of Belvidere
Maps are available for inspection at the Municipal Building, 691 Water Street, Belvidere, NJ 07823.
Town of Phillipsburg
Maps are available for inspection at the Municipal Building, 675 Corliss Avenue, Phillipsburg, NJ 08865.
Township of Hardwick
Maps are available for inspection at the Municipal Building, 40 Spring Valley Road, Hardwick, NJ 07825.
Township of Harmony
Maps are available for inspection at the Harmony Township Municipal Building, 3003 Belvidere Road, Phillipsburg, NJ 08865.
Township of Knowlton
Maps are available for inspection at the Knowlton Township Municipal Building, 628 Route 94, Columbia, NJ 07832.
Township of Lopatcong
Maps are available for inspection at the Lopatcong Township Municipal Building, 232 South 3rd Street, Phillipsburg, NJ 08865.
Township of Pohatcong
Maps are available for inspection at the Pohatcong Township Municipal Building, 50 Municipal Drive, Phillipsburg, NJ 08865.
Township of White
Maps are available for inspection at the White Township Municipal Building, 555 County Road 519, Belvidere, NJ 07823.
Stark County, Ohio, and Incorporated Areas
Docket No.: FEMA-B-1098
Broad-Monter Creek | At the upstream side of Ravenna Avenue | +1110 | Unincorporated Areas of Stark County.
| Approximately 650 feet upstream of Ravenna Avenue | +1110
| Approximately 320 feet downstream of Meese Road | +1157
| At the downstream side of Meese Road | +1161
Chatham Ditch | Approximately 900 feet upstream of 7th Street | +1100 | City of North Canton.
| Approximately 950 feet downstream of Holl Road | +1121
Clays Ditch | Approximately 1,300 feet upstream of Roanoke Street | +1031 | Unincorporated Areas of Stark County.
| Approximately 220 feet upstream of Knight Street | +1039
East Branch Nimishillen Creek | Approximately 140 feet downstream of Beck Avenue | +1081 | City of Louisville, Unincorporated Areas of Stark County.
| At the downstream side of Nickel Plate Avenue | +1109
East Branch Nimishillen Creek (backwater effects) | Approximately 650 feet upstream of the confluence with East Branch Nimishillen Creek and East Branch Nimishillen Creek Diversion | +1050 | City of Canton.
| Approximately 1,350 feet upstream of the confluence with East Branch Nimishillen Creek and East Branch Nimishillen Creek Diversion | +1050
Mahoning River | Approximately 1,400 feet downstream of Union Avenue | +1032 | City of Alliance, Unincorporated Areas of Stark County.
| Approximately 0.86 mile upstream of Webb Avenue | +1046
Mahoning River Overflow | At the confluence with the Mahoning River | +1045 | City of Alliance, Unincorporated Areas of Stark County.
| At the divergence from the Mahoning River | +1046
McDowell Ditch | Approximately 140 feet upstream of Guilford Avenue | +1045 | City of Canton, City of North Canton, Unincorporated Areas of Stark County.
| At the confluence with Zimber Ditch | +1062
McDowell Ditch Overflow 1 (formerly McDowell Ditch Diversion Channel) | At the downstream side of I-77 | +1051 | Unincorporated Areas of Stark County.
| At the upstream side of I-77 | +1053
McDowell Ditch Overflow 2 | At the confluence with McDowell Ditch Overflow 1 | +1054 | City of Canton, Unincorporated Areas of Stark County.
| At the divergence from McDowell Ditch | +1055
Metzger Ditch | Approximately 160 feet downstream of Cain Street (at the Summit County boundary) | +1107 | Unincorporated Areas of Stark County.
| Approximately 1.18 miles upstream of Lake Center Street | +1124
Middle Tributary | At the confluence with North Chapel Creek | +1108 | City of Louisville.
| At the downstream side of Atlantic Boulevard (U.S. Route 62) | +1148
North Chapel Creek | At the upstream side of Frana Clara Street | +1105 | City of Louisville, Unincorporated Areas of Stark County.
| At the downstream side of Atlantic Boulevard (U.S. Route 62) | +1144
Plum Creek | Approximately 0.82 mile downstream of Manchester Avenue (State Route 93) | +947 | City of Canal Fulton, Unincorporated Areas of Stark County.
| At the downstream side of Akron Avenue | +1012
Unnamed Tributary to East Branch Nimishillen Creek | At the confluence with East Branch Nimishillen Creek | +1085 | City of Louisville, Unincorporated Areas of Stark County.
| At the downstream side of Georgetown Street | +1105
West Branch Nimishillen Creek | Approximately 190 feet downstream of I-77 | +1043 | City of Canton, City of North Canton, Unincorporated Areas of Stark County.
| Approximately 700 feet downstream of Hoover Avenue | +1155
West Branch Nimishillen Creek Overflow | At the downstream side of Midway Street | +1126 | Unincorporated Areas of Stark County.
| Approximately 400 feet upstream of Midway Street | +1130
West Branch Nimishillen Creek Tributary 1 | At the confluence with West Branch Nimishillen Creek | +1090 | Unincorporated Areas of Stark County.
| At the upstream side of State Street | +1140
West Sippo Creek | At the downstream side of Deermont Avenue | +995 | City of Massillon, Unincorporated Areas of Stark County.
| At the downstream side of Manchester Avenue (State Route 93) | +1034
Zimber Ditch Tributary 1 | Approximately 0.45 mile upstream of Beech Hill Road (at the Summit County Boundary) | +1107 | Unincorporated Areas of Stark County.
| Approximately 1,080 feet upstream of Cleveland Avenue | +1164
Zimber Ditch Tributary 1A | At the confluence with Zimber Ditch Tributary 1 | +1122 | Unincorporated Areas of Stark County.
| Approximately 0.39 mile upstream of Burkey Road | +1156
* National Geodetic Vertical Datum.
+ North American Vertical Datum.
# Depth in feet above ground.
‸ Mean Sea Level, rounded to the nearest 0.1 meter.
ADDRESSES
City of Alliance
Maps are available for inspection at the City Office, 504 East Main Street, Alliance, OH 44601.
City of Canal Fulton
Maps are available for inspection at City Hall, 155 East Market Street, Canal Fulton, OH 44614.
City of Canton
Maps are available for inspection at the City Offices, 424 Market Avenue North, Canton, OH 44702.
City of Louisville
Maps are available for inspection at City Hall, 215 South Mill Street, Louisville, OH 44641.
City of Massillon
Maps are available for inspection at the Municipal Government Annex, 151 Lincolnway East, Massillon, OH 44646.
City of North Canton
Maps are available for inspection at the Engineering Office, 220 West Maple Street, North Canton, OH 44720.
Unincorporated Areas of Stark County
Maps are available for inspection at the Stark County Building Department, 110 Central Plaza South, Canton, OH 44702.
Anderson County, South Carolina, and Incorporated Areas
Docket No.: FEMA-B-1115
Bailey Creek | Approximately 600 feet upstream of the confluence with Cox Creek | +673 | City of Anderson, Unincorporated Areas of Anderson County.
| Approximately 1.4 miles upstream of Simpson Road | +732
Bear Creek | At the confluence with the Rocky River | +556 | Unincorporated Areas of Anderson County.
| Approximately 1.7 miles upstream of Due West Highway | +714
Beaver Creek | At the confluence with the Rocky River | +571 | Unincorporated Areas of Anderson County.
| Approximately 2,300 feet upstream of the confluence with Beaver Creek Tributary 15 | +770
Beaver Creek Tributary 1 | At the confluence with Beaver Creek | +572 | Unincorporated Areas of Anderson County.
| Approximately 1,100 feet upstream of Mimosa Trail | +585
Beaver Creek Tributary 12 | Approximately 380 feet upstream of the confluence with Beaver Creek | +690 | Unincorporated Areas of Anderson County.
| Approximately 2,180 feet upstream of Kaye Drive | +738
Beaver Creek Tributary 13 | Approximately 270 feet upstream of the confluence with Beaver Creek | +704 | Unincorporated Areas of Anderson County.
| Approximately 1,050 feet upstream of Keys Street | +789
Beaver Creek Tributary 14 | Approximately 210 feet upstream of the confluence with Beaver Creek | +704 | Unincorporated Areas of Anderson County.
| Approximately 650 feet upstream of Winfield Drive | +776
Beaver Creek Tributary 15 | At the confluence with Beaver Creek | +744 | Unincorporated Areas of Anderson County.
| Approximately 3,010 feet upstream of the confluence with Beaver Creek | +764
Beaverdam Creek A | At the confluence with the Rocky River | +690 | Unincorporated Areas of Anderson County.
| Approximately 3,480 feet upstream of Welcome Road | +766
Beaverdam Creek A Tributary 15 | At the confluence with Beaverdam Creek A | +757 | Unincorporated Areas of Anderson County.
| Approximately 3,530 feet upstream of the confluence with Beaverdam Creek A | +774
Beaverdam Creek B Tributary 3 | Approximately 260 feet downstream of I-85 | +680 | Unincorporated Areas of Anderson County.
| Approximately 2,860 feet upstream of I-85 | +717
Big Brushy Creek | Approximately 500 feet upstream of the confluence with the Saluda River | +777 | Unincorporated Areas of Anderson County.
| At the Pickens County boundary | +901
Big Brushy Creek Tributary 17 | At the confluence with Big Brushy Creek | +789 | Unincorporated Areas of Anderson County.
| Approximately 4,330 feet upstream of the confluence with Big Brushy Creek | +809
Big Brushy Creek Tributary 23 | At the confluence with Big Brushy Creek | +782 | Unincorporated Areas of Anderson County.
| Approximately 550 feet upstream of Blossom Branch Road | +818
Big Brushy Creek Tributary 9 | At the confluence with Big Brushy Creek | +800 | Unincorporated Areas of Anderson County.
| Approximately 450 feet upstream of Cater Drive | +810
Big Creek | At the confluence with the Saluda River | +647 | Town of Williamston, Unincorporated Areas of Anderson County.
| Approximately 2,060 feet upstream of U.S. Route 29 | +871
Big Creek Tributary 13 | At the confluence with Big Creek | +695 | Unincorporated Areas of Anderson County.
| Approximately 2,640 feet upstream of the confluence with Big Creek | +716
Big Garvin Creek | At the confluence with Three and Twenty Creek | +726 | Unincorporated Areas of Anderson County.
| Approximately 1,950 feet upstream of Central Road | +788
Big Garvin Creek Tributary 3 | At the confluence with Big Garvin Creek | +745 | Unincorporated Areas of Anderson County.
| Approximately 630 feet upstream of Bishops Branch Road | +767
Big Generostee Creek | Approximately 600 feet upstream of the confluence with Lazy Branch | +613 | Unincorporated Areas of Anderson County.
| Just downstream of Michelin Boulevard | +664
Big Generostee Creek Tributary 15 | At the confluence with Big Generostee Creek | +624 | Unincorporated Areas of Anderson County.
| Approximately 1,860 feet upstream of the confluence with Big Generostee Creek | +644
Big Generostee Creek Tributary 17 | At the confluence with Big Generostee Creek | +627 | Unincorporated Areas of Anderson County.
| Approximately 1,980 feet upstream of the confluence with Big Generostee Creek | +644
Big Generostee Creek Tributary 20 | At the confluence with Big Generostee Creek | +634 | Unincorporated Areas of Anderson County.
| Approximately 2,160 feet upstream of the confluence with Big Generostee Creek | +661
Big Generostee Creek Tributary 22 | At the confluence with Big Generostee Creek | +641 | Unincorporated Areas of Anderson County.
| Approximately 4,180 feet upstream of the confluence with Big Generostee Creek | +685
Big Generostee Creek Tributary 28 | Approximately 480 feet upstream of the confluence with Big Generostee Creek | +670 | Unincorporated Areas of Anderson County.
| Approximately 490 feet upstream of the railroad | +787
Big Generostee Creek Tributary 30 | Approximately 380 feet upstream of the confluence with Big Generostee Creek | +679 | Unincorporated Areas of Anderson County.
| Approximately 2,540 feet upstream of the confluence with Big Generostee Creek | +690
Big Generostee Creek Tributary 31 | Approximately 1,000 feet upstream of the confluence with Big Generostee Creek | +682 | Unincorporated Areas of Anderson County.
| Approximately 2,130 feet upstream of West Shockley Fry Road | +794
Big Generostee Creek Tributary 32 | Approximately 960 feet upstream of the confluence with Big Generostee Creek | +683 | Unincorporated Areas of Anderson County.
| Approximately 100 feet upstream of New Pond Road | +773
Broad Mouth Creek | At the Abbeville County boundary | +593 | Unincorporated Areas of Anderson County.
| Approximately 2,700 feet upstream of State Highway 247 | +778
Broad Mouth Creek Tributary 11 | At the confluence with Broad Mouth Creek | +648 | Unincorporated Areas of Anderson County.
| Approximately 1,330 feet upstream of Nalley Road | +667
Broad Mouth Creek Tributary 11.1 | At the confluence with Broad Mouth Creek Tributary 11 | +651 | Unincorporated Areas of Anderson County.
| Approximately 1,380 feet upstream of the confluence with Broad Mouth Creek Tributary 11 | +664
Broadway Creek | At the confluence with the Rocky River | +597 | Unincorporated Areas of Anderson County.
| Approximately 300 feet downstream of Broadway School Road | +672
Brushy Creek | At the confluence with Big Brushy Creek | +802 | Unincorporated Areas of Anderson County.
| At the Pickens County boundary | +877
Brushy Creek Tributary 7 | At the confluence with Big Brushy Creek | +819 | Unincorporated Areas of Anderson County.
| Approximately 3,010 feet upstream of Laboone Road | +851
Camp Creek | Approximately 1,250 feet upstream of Cherokee Road | +801 | Town of Williamston.
| Approximately 1,850 feet upstream of Cherokee Road | +805
Canoe Creek | At the confluence with Little Generostee Creek | +490 | Unincorporated Areas of Anderson County.
| Approximately 2.0 miles upstream of Turpin Road | +635
Canoe Creek Tributary 3 | At the confluence with Canoe Creek | +520 | Unincorporated Areas of Anderson County.
| Approximately 2,900 feet upstream of Gene Forester Road | +620
Canoe Creek Tributary 6 | At the confluence with Canoe Creek | +544 | Unincorporated Areas of Anderson County.
| Approximately 2,800 feet upstream of Hatchery Road | +626
Canoe Creek Tributary 6.1 | At the confluence with Canoe Creek Tributary 6 | +553 | Unincorporated Areas of Anderson County.
| Approximately 260 feet upstream of Gray Circle | +588
Carmel Creek | At the confluence with Three and Twenty Creek | +796 | Unincorporated Areas of Anderson County.
| At the Pickens County boundary | +824
Charles Creek | At the confluence with Three and Twenty Creek | +804 | Unincorporated Areas of Anderson County.
| Approximately 1.2 miles upstream of Ridge Road | +867
Cherokee Creek | Approximately 660 feet upstream of the confluence with Cherokee Creek Tributary 17 | +773 | City of Belton, Unincorporated Areas of Anderson County.
| Approximately 970 feet upstream of the confluence with Cherokee Creek Tributary 17 | +793
Cherokee Creek Tributary 17 | At the confluence with Cherokee Creek | +780 | City of Belton, Unincorporated Areas of Anderson County.
| Approximately 1,090 feet upstream of Watkins Road | +792
Corner Creek | Approximately 400 feet upstream of the Abbeville County boundary | +692 | Town of Honea Path, Unincorporated Areas of Anderson County.
| Approximately 150 feet upstream of Oak Drive | +762
Corner Creek Tributary 2 | At the confluence with Corner Creek | +703 | Town of Honea Path, Unincorporated Areas of Anderson County.
| Approximately 830 feet upstream of Pinson Drive | +771
Corner Creek Tributary 4 | Approximately 200 feet upstream of the confluence with Corner Creek | +717 | Town of Honea Path.
| Approximately 460 feet upstream of Park Avenue | +740
Craven Creek | Approximately 400 feet upstream of the confluence with the Saluda River | +787 | Unincorporated Areas of Anderson County.
| Approximately 3,010 feet upstream of Cannon Lane | +795
Crooked Creek | At the confluence with Little Generostee Creek | +481 | Unincorporated Areas of Anderson County.
| Approximately 1.3 miles upstream of Sam Turner Road | +530
Crooked Creek Tributary 2 | At the confluence with Crooked Creek | +497 | Unincorporated Areas of Anderson County.
| Approximately 2,170 feet upstream of the confluence with Crooked Creek | +511
Cuffie Creek | At the confluence with Three and Twenty Creek | +729 | Unincorporated Areas of Anderson County.
| Approximately 2.1 miles upstream of Bishops Branch Road | +809
Deep Step Creek | At the confluence with Jordan Creek | +613 | Unincorporated Areas of Anderson County.
| Approximately 1,600 feet upstream of the confluence with Jordan Creek | +623
Double Branch | At the confluence with Three and Twenty Creek | +758 | Unincorporated Areas of Anderson County.
| Approximately 3,220 feet upstream of Burgess Road | +789
East Beards Creek | At the Abbeville County boundary | +505 | Unincorporated Areas of Anderson County.
| Approximately 100 feet upstream of Saxton Gin Road | +726
East Prong Creek | At the confluence with Little Generostee Creek | +518 | Unincorporated Areas of Anderson County.
| Approximately 70 feet downstream of Johnny Long Road | +647
East Prong Creek Tributary 11 | At the confluence with East Prong Creek | +578 | Unincorporated Areas of Anderson County.
| Approximately 1,340 feet upstream of Hall Road | +641
Eighteen Mile Creek | Approximately 1,100 feet upstream of the confluence with the Seneca River | +663 | Town of Pendleton, Unincorporated Areas of Anderson County.
| Approximately 80 feet upstream of Central Road | +709
Eighteen Mile Creek Tributary 1 | At the confluence with Eighteen Mile Creek | +663 | Unincorporated Areas of Anderson County.
| Approximately 2,090 feet upstream of the confluence with Eighteen Mile Creek | +663
Eighteen Mile Creek Tributary 3 | At the confluence with Eighteen Mile Creek | +664 | Unincorporated Areas of Anderson County.
| Approximately 2,780 feet upstream of the confluence with Eighteen Mile Creek | +670
Eighteen Mile Creek Tributary 4 | At the confluence with Eighteen Mile Creek | +665 | Unincorporated Areas of Anderson County.
| Approximately 2,410 feet upstream of the confluence with Eighteen Mile Creek | +678
Eighteen Mile Creek Tributary 5 | At the confluence with Eighteen Mile Creek | +665 | Unincorporated Areas of Anderson County.
| Approximately 2,960 feet upstream of the confluence with Eighteen Mile Creek | +674
Eighteen Mile Creek Tributary 6 | At the confluence with Eighteen Mile Creek | +667 | Unincorporated Areas of Anderson County.
| Approximately 2,350 feet upstream of the confluence with Eighteen Mile Creek | +677
Eighteen Mile Creek Tributary 7 | At the confluence with Eighteen Mile Creek | +667 | Unincorporated Areas of Anderson County.
| Approximately 2,060 feet upstream of Fants Grove Circle | +692
Eighteen Mile Creek Tributary 10 | At the confluence with Eighteen Mile Creek | +671 | Unincorporated Areas of Anderson County.
| Approximately 3,710 feet upstream of the confluence with Eighteen Mile Creek | +734
Eighteen Mile Creek Tributary 11 | At the confluence with Eighteen Mile Creek | +671 | Unincorporated Areas of Anderson County.
| Approximately 1.6 miles upstream of the confluence with Eighteen Mile Creek | +734
Eighteen Mile Creek Tributary 12 | At the confluence with Eighteen Mile Creek | +674 | Unincorporated Areas of Anderson County.
| Approximately 3,380 feet upstream of the confluence with Eighteen Mile Creek | +694
Eighteen Mile Creek Tributary 13 | At the confluence with Eighteen Mile Creek | +680 | Unincorporated Areas of Anderson County.
| Approximately 1,110 feet upstream of Fants Grove Road | +718
Eighteen Mile Creek Tributary 13.2 | At the confluence with Eighteen Mile Creek Tributary 13 | +697 | Unincorporated Areas of Anderson County.
| Approximately 3,020 feet upstream of the confluence with Eighteen Mile Creek Tributary 13 | +721
Eighteen Mile Creek Tributary 18 | At the confluence with Eighteen Mile Creek | +687 | Unincorporated Areas of Anderson County.
| Approximately 2,480 feet upstream of West Queen Street | +727
Eighteen Mile Creek Tributary A | At the confluence with Eighteen Mile Creek | +688 | Town of Pendleton, Unincorporated Areas of Anderson County.
| Approximately 4,160 feet upstream of the confluence with Eighteen Mile Creek | +730
Eighteen Mile Creek Tributary A Tributary 1 | At the confluence with Eighteen Mile Creek Tributary A | +701 | Town of Pendleton.
| Approximately 1.0 mile upstream of the confluence with Eighteen Mile Creek Tributary A | +768
Eighteen Mile Creek Tributary B | At the confluence with Eighteen Mile Creek | +695 | Town of Pendleton, Unincorporated Areas of Anderson County.
| Approximately 850 feet upstream of Hamberg Street | +738
Eighteen Mile Creek Tributary B Tributary 2 | At the confluence with Eighteen Mile Creek Tributary B | +738 | Town of Pendleton.
| Approximately 1,000 feet upstream of Crenshaw Street | +796
First Creek | At the confluence with the Rocky River | +549 | Unincorporated Areas of Anderson County.
| Approximately 400 feet upstream of First Creek Road | +597
First Creek Tributary 1 | At the confluence with First Creek | +549 | Unincorporated Areas of Anderson County.
| Approximately 1,930 feet upstream of the confluence with First Creek | +557
Five Mile Creek | At the confluence with Big Generostee Creek | +648 | Unincorporated Areas of Anderson County.
| Approximately 2,480 feet upstream of New Prospect Church Road | +725
Five Mile Creek Tributary 1 | At the confluence with Five Mile Creek | +657 | Unincorporated Areas of Anderson County.
| Approximately 1.2 miles upstream of Jones Drive | +744
Five Mile Creek Tributary 5 | At the confluence with Five Mile Creek | +688 | Unincorporated Areas of Anderson County.
| Approximately 2,070 feet upstream of Country Meadow Road | +712
Five Mile Creek Tributary 9 | At the confluence with Five Mile Creek | +718 | Unincorporated Areas of Anderson County.
| Approximately 1,130 feet upstream of the confluence with Five Mile Creek | +741
Governors Creek | At the confluence with Rocky Creek | +554 | Unincorporated Areas of Anderson County.
| Approximately 2,700 feet upstream of Gillespie Road | +624
Governors Creek Tributary 4 | At the confluence with Governors Creek | +583 | Unincorporated Areas of Anderson County.
| Approximately 4,550 feet upstream of the confluence with Governors Creek | +639
Hartwell Reservoir Tributary | At the confluence with Town Creek A | +663 | City of Anderson, Unincorporated Areas of Anderson County.
| Approximately 1,100 feet downstream of Valley Drive | +690
Hembree Creek | At the confluence with Six and Twenty Creek | +666 | City of Anderson, Unincorporated Areas of Anderson County.
| Approximately 3,820 feet upstream of Salem Church Road | +724
Hencoop Creek | At the confluence with the Rocky River | +558 | Unincorporated Areas of Anderson County.
| Approximately 500 feet upstream of Due West Highway | +615
Hornbuckle Creek | At the confluence with Big Brushy Creek | +806 | Unincorporated Areas of Anderson County.
| Approximately 160 feet upstream of Sitton Hill Road | +829
Hurricane Creek A | At the confluence with Six and Twenty Creek | +666 | Unincorporated Areas of Anderson County.
| Approximately 3,960 feet upstream of I-85 | +706
Hurricane Creek B | At the confluence with the Saluda River | +739 | Unincorporated Areas of Anderson County.
| Approximately 2,590 feet upstream of State Highway 17 | +849
Hurricane Creek B Tributary 11 | At the confluence with Hurricane Creek B | +817 | Unincorporated Areas of Anderson County.
| Approximately 3,350 feet upstream of the confluence with Hurricane Creek B | +829
Hurricane Creek B Tributary 7 | At the confluence with Hurricane Creek B | +763 | Unincorporated Areas of Anderson County.
| Approximately 3,330 feet upstream of the confluence with Hurricane Creek B | +784
Hurricane Creek B Tributary 8 | At the confluence with Hurricane Creek B | +765 | Unincorporated Areas of Anderson County.
| Approximately 1,660 feet upstream of the confluence with Hurricane Creek B | +772
Indian Branch | At the confluence with Little Generostee Creek | +551 | Unincorporated Areas of Anderson County.
| Approximately 1,400 feet upstream of Pollard Road | +616
Indian Branch Tributary 3 | At the confluence with Indian Branch | +573 | Unincorporated Areas of Anderson County.
| Approximately 3,440 feet upstream of the confluence with Indian Branch | +600
Jones Creek | At the confluence with Six and Twenty Creek | +675 | Unincorporated Areas of Anderson County.
| Approximately 100 feet downstream of Scotts Bridge Road | +692
Jones Creek Tributary 1 | At the confluence with Jones Creek | +683 | Unincorporated Areas of Anderson County.
| Approximately 1,850 feet upstream of I-85 | +714
Jordan Creek | At the confluence with Wilson Creek | +561 | Unincorporated Areas of Anderson County.
| Approximately 1,000 feet upstream of Hebron Church Road | +639
Jordan Creek Tributary 1 | At the confluence with Jordan Creek | +569 | Unincorporated Areas of Anderson County.
| Approximately 1,500 feet upstream of Aubrey Hardy Road | +583
Little Beaverdam Creek | Approximately 600 feet upstream of Hattons Ford Road | +662 | Unincorporated Areas of Anderson County.
| At the Oconee County boundary. | +691
Little Beaverdam Creek A | At the confluence with the Rocky River | +697 | Unincorporated Areas of Anderson County.
| Approximately 4,850 feet upstream of Welcome Road | +786
Little Beaverdam Creek Tributary 2 | At the confluence with Little Beaverdam Creek | +677 | Unincorporated Areas of Anderson County.
| Approximately 3,510 feet upstream of the confluence with Little Beaverdam Creek | +692
Little Beaverdam Creek Tributary 4 | At the confluence with Little Beaverdam Creek | +669 | Unincorporated Areas of Anderson County.
| Approximately 2,200 feet upstream of Gaines Road | +697
Little Beaverdam Creek Tributary 5 | At the confluence with Little Beaverdam Creek | +668 | Unincorporated Areas of Anderson County.
| Approximately 4,470 feet upstream of Fred Dobbins Road | +705
Little Beaverdam Creek Tributary 6 | At the confluence with Little Beaverdam Creek | +668 | Unincorporated Areas of Anderson County.
| Approximately 2,750 feet upstream of Bradberry Road | +710
Little Beaverdam Creek Tributary 7 | At the confluence with Little Beaverdam Creek | +664 | Unincorporated Areas of Anderson County.
| Approximately 2,870 feet upstream of the confluence with Little Beaverdam Creek | +688
Little Beaverdam Creek Tributary 8 | At the confluence with Little Beaverdam Creek | +663 | Unincorporated Areas of Anderson County.
| Approximately 1,950 feet upstream of Slaton Road | +671
Little Brushy Creek | At the confluence with Big Brushy Creek | +793 | Unincorporated Areas of Anderson County.
| Approximately 1,270 feet upstream of Mountain Springs Road | +846
Little Garvin Creek | At the confluence with Big Garvin Creek | +731 | Unincorporated Areas of Anderson County.
| Approximately 2,750 feet upstream of Bishops Branch Road | +764
Little Generostee Creek | At the Elbert County, Georgia boundary | +480 | Town of Starr, Unincorporated Areas of Anderson County.
| Approximately 3,400 feet upstream of Erwin Street | +732
Little Generostee Creek Tributary 6 | At the confluence with Little Generostee Creek | +648 | Unincorporated Areas of Anderson County.
| Approximately 2,600 feet upstream of the confluence with Little Generostee Creek Tributary 6.2 | +732
Little Generostee Creek Tributary 6.2 | At the confluence with Little Generostee Creek Tributary 6 | +707 | Unincorporated Areas of Anderson County.
| Approximately 1,600 feet upstream of the confluence with Little Generostee Creek Tributary 6 | +707
Little Generostee Creek Tributary 8 | At the confluence with Little Generostee Creek | +623 | Unincorporated Areas of Anderson County.
| Approximately 2,430 feet upstream of the confluence with Little Generostee Creek | +655
Little Generostee Creek Tributary 9 | At the confluence with Little Generostee Creek | +565 | Unincorporated Areas of Anderson County.
| Approximately 3,950 feet upstream of the confluence with Little Generostee Creek | +587
Long Branch A | At the Abbeville County boundary. | +591 | Unincorporated Areas of Anderson County.
| Approximately 2,400 feet upstream of Liberty Road | +618
Middle Branch Brushy Creek | At the confluence with Big Brushy Creek | +863 | Unincorporated Areas of Anderson County.
| At the Pickens County boundary | +875
Milwee Creek | At the confluence with Three and Twenty Creek | +696 | Unincorporated Areas of Anderson County.
| Approximately 1.0 mile upstream of Gentry Road | +868
Mountain Creek | Approximately 30 feet upstream of the confluence with Big Generostee Creek | +554 | Unincorporated Areas of Anderson County.
| Approximately 1.6 miles upstream of Mountain Church Creek Road | +724
Mountain Creek Tributary 11 | At the confluence with Mountain Creek | +594 | Unincorporated Areas of Anderson County.
| Approximately 1.2 miles upstream of the confluence with Mountain Creek | +675
Mountain Creek Tributary 5 | At the confluence with Mountain Creek | +572 | Unincorporated Areas of Anderson County.
| Approximately 4,500 feet upstream of Carl Baker Road | +617
Mountain Creek Tributary 6 | At the confluence with Mountain Creek | +579 | Unincorporated Areas of Anderson County.
| Approximately 3,680 feet upstream of the confluence with Mountain Creek | +598
Mountain Creek Tributary 7 | At the confluence with Mountain Creek | +580 | Unincorporated Areas of Anderson County.
| Approximately 2,350 feet upstream of the confluence with Mountain Creek | +601
Mountain Creek Tributary 9 | At the confluence with Mountain Creek | +586 | Unincorporated Areas of Anderson County.
| Approximately 150 feet upstream of Chris De Lane | +652
Mountain Creek Tributary 9.3 | At the confluence with Mountain Creek Tributary 9 | +602 | Unincorporated Areas of Anderson County.
| Approximately 2,890 feet upstream of Martin Road | +624
Mountain Creek Tributary 9.5 | At the confluence with Mountain Creek Tributary 9 | +618 | Unincorporated Areas of Anderson County.
| Approximately 1.8 miles upstream of the confluence with Mountain Creek Tributary 9 | +743
Mountain Creek Tributary 9.8 | At the confluence with Mountain Creek Tributary 9 | +636 | Unincorporated Areas of Anderson County.
| Approximately 2,510 feet upstream of the confluence with Mountain Creek Tributary 9 | +653
Neals Creek | At the confluence with Broadway Creek | +623 | Unincorporated Areas of Anderson County.
| Approximately 900 feet upstream of State Highway 252 | +731
Nesbit Creek | Approximately 290 feet upstream of the confluence with Beaver Creek | +619 | Unincorporated Areas of Anderson County.
| Approximately 1,840 feet upstream of the confluence with Beaver Creek | +624
Pea Creek | At the confluence with Broadway Creek | +635 | Unincorporated Areas of Anderson County.
| Approximately 1,360 feet upstream of Sherwood Drive | +801
Pickens Creek | At the confluence with Three and Twenty Creek | +786 | Unincorporated Areas of Anderson County.
| Approximately 1,370 feet upstream of Hunt Road | +874
Pickens Creek Tributary 6 | At the confluence with Pickens Creek | +828 | Unincorporated Areas of Anderson County.
| Approximately 530 feet upstream of Lake Road | +860
Richland Creek | At the confluence with Big Generostee Creek | +633 | Unincorporated Areas of Anderson County.
| Approximately 1.4 miles upstream of U.S. Route 29 | +740
Richland Creek Tributary 3 | At the confluence with Richland Creek | +652 | Unincorporated Areas of Anderson County.
| Just downstream of Richland Drive | +652
Richland Creek Tributary 4 | At the confluence with Richland Creek | +670 | Unincorporated Areas of Anderson County.
| Approximately 190 feet upstream of Richland Drive | +670
Rocky Branch | At the confluence with Big Generostee Creek | +638 | Unincorporated Areas of Anderson County.
| Approximately 1,630 feet upstream of Strawberry Road | +729
Rocky River | At the Abbeville County boundary | +548 | City of Anderson, Unincorporated Areas of Anderson County.
| Approximately 2,180 feet upstream of the confluence with Little Beaverdam Creek A | +707
Rocky River Tributary 1 | At the confluence with the Rocky River | +548 | Unincorporated Areas of Anderson County.
| Approximately 1.3 miles upstream of the confluence with the Rocky River | +578
Rocky River Tributary 18 | At the confluence with the Rocky River | +578 | Unincorporated Areas of Anderson County.
| Approximately 2,600 feet upstream of Due West Highway | +600
Rocky River Tributary 20 | At the confluence with the Rocky River | +591 | Unincorporated Areas of Anderson County.
| Approximately 2,000 feet upstream of Scott Road | +598
Rocky River Tributary 27 | Approximately 400 feet upstream of the confluence with the Rocky River | +651 | Unincorporated Areas of Anderson County.
| Approximately 2,300 feet upstream of the confluence with Rocky River Tributary 27.3 | +776
Rocky River Tributary 27.3 | At the confluence with Rocky River Tributary 27 | +751 | Unincorporated Areas of Anderson County.
| Approximately 1,410 feet upstream of George Albert Lake Road | +781
Rocky River Tributary 28 | Approximately 150 feet downstream of Lawrence Road | +652 | Unincorporated Areas of Anderson County.
| Approximately 1,000 feet upstream of Lawrence Road | +665
Salem Creek | Approximately 1,300 feet upstream of the confluence with Six and Twenty Creek | +660 | Unincorporated Areas of Anderson County.
| Approximately 7,900 feet upstream of Centerville Road | +671
Salem Creek Tributary 4 | Approximately 600 feet upstream of the confluence with Salem Creek | +690 | Unincorporated Areas of Anderson County.
| Approximately 590 feet upstream of Quail Ridge Road | +695
Saluda River | At the Abbeville/Greenville County boundary | +568 | Town of Pelzer, Unincorporated Areas of Anderson County.
| Approximately 1,500 feet downstream of the confluence with Saluda River Tributary 41 | +750
Saluda River Tributary 1 | Approximately 250 feet upstream of the confluence with the Saluda River | +804 | Unincorporated Areas of Anderson County.
| Approximately 1.29 miles upstream of Sterling Bridge Road | +898
Saluda River Tributary 41 | Approximately 100 feet upstream of the confluence with the Saluda River | +757 | Unincorporated Areas of Anderson County.
| Approximately 500 feet upstream of Iler Street | +757
Saluda River Tributary 42 | At the confluence with the Saluda River | +747 | Unincorporated Areas of Anderson County.
| Approximately 100 feet upstream of Osteen Hill Road | +761
Saluda River Tributary 51 | At the confluence with the Saluda River | +732 | Unincorporated Areas of Anderson County.
| Approximately 1,800 feet upstream of Holiday Street | +784
Saluda River Tributary 52 | At the confluence with the Saluda River | +732 | Unincorporated Areas of Anderson County.
| Approximately 1,160 feet upstream of Old River Road | +736
Saluda River Tributary 62 | At the confluence with the Saluda River | +702 | Unincorporated Areas of Anderson County.
| Approximately 2,600 feet upstream of the confluence with the Saluda River | +730
Saluda River Tributary 103.1 | At the confluence with the Saluda River | +639 | Unincorporated Areas of Anderson County.
| Approximately 3,600 feet upstream of the confluence with the Saluda River | +661
Savannah River | At the Abbeville County boundary | +480 | Unincorporated Areas of Anderson County.
| Just downstream of Hartwell Dam | +480
Savannah River Tributary 23 | At the Hart County, Georgia boundary | +480 | Unincorporated Areas of Anderson County.
| Approximately 5,000 feet upstream of the Hart County, Georgia boundary | +490
Shanklin Creek Tributary A | Approximately 650 feet upstream of the confluence with Shanklin Creek | +768 | Town of Pendleton.
| Approximately 260 feet upstream of East Queen Street | +792
Silver Brook | Approximately 500 feet upstream of the confluence with the Rocky River | +664 | City of Anderson, Unincorporated Areas of Anderson County.
| Approximately 350 feet upstream of White Street | +742
Silver Brook Tributary 2 | At the confluence with Silver Brook | +703 | City of Anderson, Unincorporated Areas of Anderson County.
| Approximately 140 feet upstream of Hall Street | +774
Six and Twenty Creek | Approximately 4,670 feet downstream of the confluence with Hurricane Creek A | +665 | Unincorporated Areas of Anderson County.
| Approximately 250 feet upstream of the confluence with Six and Twenty Creek Tributary 16 | +668
Six and Twenty Creek Tributary 10 | At the confluence with Six and Twenty Creek | +667 | Unincorporated Areas of Anderson County.
| Approximately 3,610 feet upstream of Manse Jolly Road | +676
Six and Twenty Creek Tributary 11 | At the confluence with Six and Twenty Creek | +667 | Unincorporated Areas of Anderson County.
| Approximately 2,050 feet upstream of the confluence with Six and Twenty Creek | +676
Six and Twenty Creek Tributary 12 | At the confluence with Six and Twenty Creek | +667 | Unincorporated Areas of Anderson County.
| Approximately 230 feet upstream of Harris Bridge Road | +696
Six and Twenty Creek Tributary 15 | At the confluence with Six and Twenty Creek | +668 | Unincorporated Areas of Anderson County.
| Approximately 3,770 feet upstream of the confluence with Six and Twenty Creek | +684
Six and Twenty Creek Tributary 16 | At the confluence with Six and Twenty Creek | +668 | Unincorporated Areas of Anderson County.
| Approximately 4,390 feet upstream of Slater Road | +701
Six and Twenty Creek Tributary 19 | Approximately 30 feet upstream of the confluence with Six and Twenty Creek | +679 | Unincorporated Areas of Anderson County.
| Approximately 1,800 feet upstream of Dalrymple Road | +698
Three and Twenty Creek | Approximately 160 feet upstream of the confluence with Six and Twenty Creek | +661 | Unincorporated Areas of Anderson County.
| At the Pickens County boundary | +821
Three and Twenty Creek Tributary 1 | At the confluence with Three and Twenty Creek | +661 | Unincorporated Areas of Anderson County.
| Approximately 4,490 feet upstream of the confluence with Three and Twenty Creek | +686
Three and Twenty Creek Tributary 3 | At the confluence with Three and Twenty Creek | +663 | Unincorporated Areas of Anderson County.
| Approximately 1,040 feet upstream of Rock Creek Road | +688
Three and Twenty Creek Tributary 5 | At the confluence with Three and Twenty Creek | +665 | Unincorporated Areas of Anderson County.
| Approximately 1,480 feet upstream of Hix Road | +706
Three and Twenty Creek Tributary 5.1 | At the confluence with Three and Twenty Creek Tributary 5 | +665 | Unincorporated Areas of Anderson County.
| Approximately 2,410 feet upstream of the confluence with Three and Twenty Creek Tributary 5 | +677
Three and Twenty Creek Tributary 6 | At the confluence with Three and Twenty Creek | +665 | Unincorporated Areas of Anderson County.
| Approximately 2,550 feet upstream of the confluence with Three and Twenty Creek | +675
Three and Twenty Creek Tributary 7 | At the confluence with Three and Twenty Creek | +666 | Unincorporated Areas of Anderson County.
| Approximately 4,880 feet upstream of Sandy Springs Road | +685
Three and Twenty Creek Tributary 8 | At the confluence with Three and Twenty Creek | +668 | Unincorporated Areas of Anderson County.
| Approximately 3,900 feet upstream of the confluence with Three and Twenty Creek | +696
Three and Twenty Creek Tributary 14 | At the confluence with Three and Twenty Creek | +686 | Unincorporated Areas of Anderson County.
| Approximately 400 feet upstream of Lafrance Road | +714
Three and Twenty Creek Tributary 15 | At the confluence with Three and Twenty Creek | +692 | Unincorporated Areas of Anderson County.
| Approximately 1,950 feet upstream of Lafrance Road | +730
Three and Twenty Creek Tributary 29 | At the confluence with Three and Twenty Creek | +744 | Unincorporated Areas of Anderson County.
| Approximately 2,000 feet upstream of Olden Porter Road | +762
Three and Twenty Creek Tributary 34 | At the confluence with Three and Twenty Creek | +747 | Unincorporated Areas of Anderson County.
| Approximately 90 feet upstream of Six and Twenty Road | +789
Three and Twenty Creek Tributary 43 | At the confluence with Three and Twenty Creek | +778 | Unincorporated Areas of Anderson County.
| Approximately 1.0 mile upstream of Slab Bridge Road | +808
Threemile Creek | At the confluence with Big Generostee Creek | +653 | Unincorporated Areas of Anderson County.
| Approximately 390 feet upstream of Michelin Boulevard | +726
Toney Creek | At the confluence with the Saluda River | +645 | Unincorporated Areas of Anderson County.
| Approximately 3,700 feet upstream of Cannon Bottom Road | +663
Toney Creek Tributary 1 | At the confluence with Toney Creek | +645 | Unincorporated Areas of Anderson County.
| Approximately 2,600 feet upstream of Rector Road | +676
Town Creek A | At the confluence with Six and Twenty Creek | +667 | Unincorporated Areas of Anderson County.
| Approximately 140 feet upstream of Foxcroft Way | +685
Town Creek B | At the confluence with Three and Twenty Creek | +715 | Town of Pendleton, Unincorporated Areas of Anderson County.
| Approximately 3,170 feet upstream of Cherry Street | +778
Town Creek Tributary | At the confluence with Town Creek B | +734 | Town of Pendleton, Unincorporated Areas of Anderson County.
| Approximately 4,440 feet upstream of Westinghouse Road | +783
Tributary of Eighteen Mile Creek | At the confluence with Eighteen Mile Creek | +705 | Town of Pendleton, Unincorporated Areas of Anderson County.
| Approximately 3,120 feet upstream of the confluence with Eighteen Mile Creek | +729
Tributary A of Broad Mouth Creek | At the confluence with Broad Mouth Creek | +703 | City of Belton, Unincorporated Areas of Anderson County.
| Approximately 4,600 feet upstream of Blake Dairy Road | +770
Tributary A of Broad Mouth Creek Tributary 10 | At the confluence with Tributary A of Broad Mouth Creek | +769 | City of Belton, Unincorporated Areas of Anderson County.
| Approximately 1,000 feet upstream of the confluence with Tributary A of Broad Mouth Creek | +776
Tributary C of Broad Mouth Creek | At the confluence with Broad Mouth Creek | +637 | Town of Honea Path, Unincorporated Areas of Anderson County.
| Approximately 600 feet upstream of Carolina Avenue | +757
Tributary C of Broad Mouth Creek Tributary 3 | At the confluence with Tributary C of Broad Mouth Creek | +706 | Town of Honea Path.
| Approximately 800 feet upstream of Carter Street | +753
Tributary C of Broad Mouth Creek Tributary 4 | At the confluence with Tributary C of Broad Mouth Creek | +715 | Town of Honea Path.
| Approximately 1,350 feet upstream of Maryland Avenue | +740
Tugaloo Creek | At the confluence with Beaver Creek | +591 | Unincorporated Areas of Anderson County.
| Approximately 3,100 feet upstream of Airline Road | +637
Unnamed Tributary Beaverdam Creek B Tributary 3 | Approximately 200 feet upstream of the confluence with Beaverdam Creek B Tributary 3 | +662 | Unincorporated Areas of Anderson County.
| Approximately 2,400 feet upstream of the confluence with Beaverdam Creek B | +700
Unnamed Tributary | Approximately 50 feet upstream of the confluence with Big Generostee Creek | +528 | Unincorporated Areas of Anderson County.
| Approximately 1,780 feet upstream of the confluence with Big Generostee Creek | +541
Unnamed Tributary 1 | At the Pickens County boundary | +727 | Unincorporated Areas of Anderson County.
| Approximately 2,380 feet upstream of the Pickens County boundary | +749
Unnamed Tributary of Little Beaverdam Creek Tributary 5 | At the confluence with Little Beaverdam Creek Tributary 5 | +678 | Unincorporated Areas of Anderson County.
| Approximately 4,000 feet upstream of the confluence with Little Beaverdam Creek Tributary 5 | +712
Unnamed Tributary of Middle Branch | At the confluence with Middle Branch Brushy Creek | +872 | Unincorporated Areas of Anderson County.
| Approximately 2,240 feet upstream of the confluence with Middle Branch Brushy Creek | +904
Weems Creek | Approximately 50 feet upstream of the confluence with Big Generostee Creek | +508 | Unincorporated Areas of Anderson County.
| Approximately 2,000 feet upstream of Lenox Drive | +727
Weems Creek Tributary 12 | At the confluence with Weems Creek | +563 | Unincorporated Areas of Anderson County.
| Approximately 3,040 feet upstream of the confluence with Weems Creek | +582
Weems Creek Tributary 17 | At the confluence with Weems Creek | +527 | Unincorporated Areas of Anderson County.
| Approximately 2,270 feet upstream of the confluence with Weems Creek | +541
West Beards Creek | At the Abbeville County boundary | +506 | Unincorporated Areas of Anderson County.
| Approximately 1,400 feet upstream of Pine Ridge Road | +667
West Prong Broad Mouth Creek | At the confluence with Broad Mouth Creek | +742 | Unincorporated Areas of Anderson County.
| Approximately 40 feet upstream of State Highway 247 | +760
Whitner Creek | Approximately 70 feet upstream of Lee Street | +746 | City of Anderson.
| Approximately 100 feet upstream of Blair Street | +766
Wilson Creek | At the Abbeville County boundary | +519 | Unincorporated Areas of Anderson County.
| Approximately 230 feet upstream of Wesley Court | +775
Wilson Creek Tributary 17 | At the confluence with Wilson Creek | +595 | Unincorporated Areas of Anderson County.
| Approximately 3,600 feet upstream of the confluence with Wilson Creek | +614
Wilson Creek Tributary 21 | At the confluence with Wilson Creek | +628 | Unincorporated Areas of Anderson County.
| Approximately 1,650 feet upstream of 1st Avenue | +642
Wilson Creek Tributary 22 | At the confluence with Wilson Creek | +637 | Unincorporated Areas of Anderson County.
| Approximately 640 feet upstream of 1st Avenue | +664
Wilson Creek Tributary 24 | At the confluence with Wilson Creek | +650 | Unincorporated Areas of Anderson County.
| Approximately 1,750 feet upstream of the confluence of Wilson Creek Tributary 24.5 | +718
Wilson Creek Tributary 31 | At the confluence with Wilson Creek | +689 | Unincorporated Areas of Anderson County.
| Approximately 1,800 feet upstream of Farmer Road | +727
* National Geodetic Vertical Datum. + North American Vertical Datum. # Depth in feet above ground. ‸ Mean Sea Level, rounded to the nearest 0.1 meter.
ADDRESSES
City of Anderson
Maps are available for inspection at 401 South Main Street, Anderson, SC 29624.
City of Belton
Maps are available for inspection at 306 Anderson Street, Belton, SC 29627.
Town of Honea Path
Maps are available for inspection at 30 North Main Street, Honea Path, SC 29654.
Town of Pelzer
Maps are available for inspection at 103 Courtney Street, Pelzer, SC 29669.
Town of Pendleton
Maps are available for inspection at 301 Greenville Street, Pendleton, SC 29670.
Town of Starr
Maps are available for inspection at 7725 State Highway 81, Starr, SC 29684.
Town of Williamston
Maps are available for inspection at 12 West Main Street, Williamston, SC 29697.
Unincorporated Areas of Anderson County
Maps are available for inspection at 101 South Main Street, Anderson, SC 29622.

(Catalog of Federal Domestic Assistance No. 97.022, “Flood Insurance.”)

Dated: July 29, 2011.
Sandra K. Knight,
Deputy Federal Insurance and Mitigation Administrator, Mitigation, Department of Homeland Security, Federal Emergency Management Agency.

[FR Doc. 2011-20394 Filed 8-10-11; 8:45 am]

BILLING CODE 9110-12-P